NUCLEAR REGULATORY COMMISSION

Application for a License To Export a Utilization Facility

Pursuant to 10 CFR 110.70(b)(1) “Public notice of receipt of an application,” please take notice that the Nuclear Regulatory Commission has received the following request for an export license. Copies of the request are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the application for a license to export a utilization facility as defined in 10 CFR Part 110 and noticed herein, the Commission does not evaluate the health, safety or environmental effects in the recipient nation of the facility to be exported. The information concerning the application follows.

NRC Export License Application for a Utilization Facility
Name of applicant, date of application, date received, Application No., Docket No. | Description of facility | End use | County of destination
General Electric Nuclear Energy (GE), February 6, 2003 | Equipment—major components of a GE Advanced Boiling Water Reactor (ABWR) | Teollisuuden Voima Oy (TVO) Finland 5 Nuclear Power Plant (FIN5) | Finland.
February 10, 2003, XR168, 11005399 | Approximate Value: $750,000,000.00.

For the Nuclear Regulatory Commission.
Dated this 24th day of February 2003, at Rockville, Maryland.
Donna C. Chaney,
Acting Director, Office of International Programs.

[FR Doc. 03-4889 Filed 2-28-03; 8:45 am]

BILLING CODE 7590-01-P